DEPARTMENT OF AGRICULTURE

Forest Service

Notice of Proposed New Fee Site

AGENCY: Tahoe National Forest, Forest Service, USDA.

ACTION: Notice of Proposed New Fee Site.

SUMMARY: The Tahoe National Forest is proposing a new recreation fee for the Sardine Lookout, which would be made available as an overnight rental. The rental fee is proposed at $45 per night. Lookout rentals offer a unique experience and are a widely popular offering on National Forests. The Tahoe National Forest currently operates one lookout for public rental, the Calpine Lookout on the Sierraville Ranger District. Sardine Lookout is eligible for the National Register of Historic Places.

Fees are assessed based on the level of amenities and services provided, cost of operations and maintenance, and market assessment. These fees are proposed and will be determined upon further analysis and public comment. Funds from fees would be used for the continued operation, maintenance, enhancement and protection of this lookout and the historical integrity of the facility.

An analysis of nearby recreation facilities shows that the proposed fees are reasonable and typical of similar sites in the area.

DATES: Comments will be accepted through February 7, 2017. The Sardine Lookout rental will be listed with the National Recreation Reservation Service.

ADDRESSES: Eli Ilano, Forest Supervisor, Tahoe National Forest, 631 Coyote St., Nevada City, California 95959.

FOR FURTHER INFORMATION CONTACT: Quentin Youngblood, Sierraville District Ranger, (530) 994-3401, ext. 6601. Information about proposed fee changes can also be found on the Tahoe National Forest Web site: http://www.fs.fed.us/r5/tahoe.

SUPPLEMENTARY INFORMATION: The Federal Recreation Lands Enhancement Act (Title VII, Pub. L. 108-447) directed the Secretary of Agriculture to publish a six month advance notice in the Federal Register whenever new recreation fee areas are established. These new fees will be reviewed by a Recreation Resource Advisory Committee prior to a final decision and implementation.

Sardine Lookout was built in 1935 and is eligible for the National Register of Historic Places. The cabin has two twin beds, period correct linoleum floor, a table and fire finder pedestal that are copies of originals from Calpine Fire Lookout. There is a fire pit, picnic table and accessible vault toilet. The area is very remote with tremendous views and solitude.

Dated: November 30, 2016.
Teresa Benson,
Deputy Forest Supervisor.

[FR Doc. 2016-29462 Filed 12-8-16; 8:45 am]

BILLING CODE 3411-15-P